DEPARTMENT OF THE INTERIOR

National Park Service

Notice of Meeting of Concessions Management Advisory Board

AGENCY: National Park Service, Interior.

SUMMARY: In accordance with the Federal Advisory Committee Act (Pub. L. 92-463, 86 Stat. 770, 5 U.S.C. App 1, section 10), notice is hereby given that the Concessions Management Advisory Board (the Board) will hold its 15th meeting on march 22-23, 2006, in Washington, DC. The meeting will be held at the Wyndham Washington Hotel, 1400 M Street, NW., Washington, DC. The meeting will convene at 8:30 a.m. and will conclude at 4:30 p.m.

SUPPLEMENTARY INFORMATION: The Board was established by Title IV, section 409 of the National Park Omnibus Management Act of 1998, November 13, 1998 (Pub. L. 105-391). The purpose of the Board is to advise the Secretary and the National Park Service on matters relating to management of concessions in the National Park System.

The Board will meet at 8:30 a.m. for the regular business meeting for continued discussion on the following subjects:

• Leasehold Surrender Interest Status and Proposed LSI Process.

• Concession Program Human Capital Strategy.

• Federal Regulatory Process Overview.

• Iterim Commercial Use Authorization Regulations.

• Standards, Evaluations, and Rate Approval Program Report.

• Concession Contracting Status Update.

• Superintendent's Training Project.

• Electronic Annual Financial Report Project Update.

The meeting will be open to the public, however, facilities and space for accommodating members of the public are limited, and persons will be accommodated on a first-come-first-served basis.

Assistance to Individuals With Disabilities at the Public Meeting

The meeting site is accessible to individuals with disabilities. If you plan to attend and will require an auxiliary aid or service to participate in the meeting (e.g., interpreting service, assistive listening device, or materials in an alternate format), notify the contact person listed in this notice at least 2 weeks before the scheduled meeting date. Attempts will be made to meet any request(s) we receive after that date, however, we may not be able to make the requested auxiliary aid or service available because of insufficient time to arrange for it.

Anyone may file with the Board a written statement concerning matters to be discussed. The Board may also permit attendees to address the Board, but may restrict the length of the presentations, as necessary to allow the Board to complete its agenda within the allotted time. Such requests should be make to the Director, National Park Service, Attention: Manager, Concession Program, at least 7 days prior to the meeting.

Further information concerning the meeting may be obtained from National Park Service, Concession Program, 1849 C Street, NW., Washington, DC 20240, Telephone: 202/513-7144. Draft minutes of the meeting will be available for public inspection approximately 6 weeks after the meeting, at the Concession Program office located at 1201 Eye Street, NW., 11th Floor, Washington, DC.

Dated: February 23, 2006.
Steve Martin,
Director, National Park Service.

[FR Doc. 06-2501 Filed 3-15-06; 8:45 am]

BILLING CODE 4312-53-M